DEPARTMENT OF LABOR

Office of the Secretary

Submission for OMB Review; Comment Request

July 26, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on 202-693-4129 or e-mail: King-Darrin@dol.gov.

Comments should be sent to Office of Information and Regulatory Affairs, Attn: OMB Desk Officer for ETA, Office of Management and Budget, Room 10235, Washington, DC 20503 (202-395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of a currently approved collection.

Title: O*NET® Data Collection Program.

OMB Number: 1205-0421.

Affected Public: Individual or households; Business or other for-profit institutions; Farms; Federal Government; and State, Local, or Tribal Government.

Type of Response: Reporting.

Frequency: Every 3 to 5 years.

Number of Respondents: 80,919.

Annual Responses: 80,919.

Average Response Time: 30 minutes to complete survey and 15 to 90 minutes for point-of-contact to perform various survey distribution and coordination activities.

Estimated Burden Hours: 33,373.

Total Annualized Capital/Startup Costs: $0.

Total Annual Costs (operating/maintaining systems or purchasing services): $0.

Description: The O*NET® Data Collection Program yields information on worker and job characteristics to populate the O*NET (Occupational Information Network) database. The O*NET system is replacing the out-of-date Dictionary of Occupational Titles, and is used for a wide range of purposes related to employment and training program administration, career counseling and development, training curriculum design, Employment Service job matching and referral, development of Labor Market Information, rehabilitation and disability programs, and private sector human resources functions. The survey includes contacting businesses to gain their cooperation, and collecting information from employees of cooperating businesses. For a small number of occupations, professional associations will be contacted to gain their cooperation in providing member lists for surveying. Subject matter experts will also be surveyed in a limited number of cases. This collection of information is authorized by the Workforce Investment act (WIA). Section 309 of Workforce Investment Act (P.L. 105-220) requires the Secretary of Labor to oversee the “development, maintenance, and continuous improvement of a nationwide employment statistics system,” which shall include, among other components, “skill trends by occupation and industry.”

Ira L. Mills,
Departmental Clearance Officer.

[FR Doc. 02-19522 Filed 8-1-02; 8:45 am]

BILLING CODE 4510-30-M